DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by September 19, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: Randy Miller's Predators in Action, Inc., Big Bear City, CA, PRT-815482, 835802, and 012984.

The applicant requests a permit to export, re-export, and re-import tigers (Panthera tigris) to/from worldwide locations to enhance the survival of the species through conservation education. This notification covers activities conducted by the applicant over a three-year period.

Applicant: Kevin M. Siembida, Columbiana, OH, PRT-060420.

The applicant requests a permit to import the sport-hunted trophy of one male bontebok (Damaliscus pygargus dorcas) culled from a captive herd maintained under the management program of the Republic of South Africa for the purpose of enhancement of the survival of the species.

Applicant: Michael Bruce Allen, Vidalia, GA, PRT-060451.

The applicant requests a permit to import the sport-hunted trophy of one male bontebok (Damaliscus pygargus dorcas) culled from a captive herd maintained under the management program of the Republic of South Africa for the purpose of enhancement of the survival of the species.

Applicant: James W. Cabela, Sidney, NE, PRT-060463.

The applicant requests a permit to import the sport-hunted trophy of one male bontebok (Damaliscus pygargus dorcas) culled from a captive herd maintained under the management program of the Republic of South Africa for the purpose of enhancement of the survival of the species.

Applicant: Texas A&M University at Galveston, Galveston, TX, PRT-060260.

The applicant requests a permit to import biological samples collected from live wild Kemp's ridley sea turtle (Lepidochelys kempii), as well as infertile and/or non-viable eggs, egg shells, and dead hatchlings for the purpose of scientific research. This notification covers activities conducted by the applicant over a five-year period.

Applicant: Hollywood Animals and Animal Rental Unlimited, Inc., Los Angeles, CA, PRT-060474.

The applicant requests a permit to export, re-export, and re-import African leopards (Panthera pardus) to/from worldwide locations to enhance the survival of the species through conservation education. This notification covers activities conducted by the applicant over a three year period.

Applicant: Hollywood Animals and Animal Rental Unlimited, Inc., Los Angeles, CA, PRT-814588.

The applicant requests the re-issuance and amendment of their permit to re-export and re-import tigers (Panthera tigris) to/from worldwide locations to enhance the survival of the species through conservation education. This notification covers activities conducted by the applicant over a three year period.

Applicant: Hollywood Animals and Animal Rental Unlimited, Inc., Los Angeles, CA, PRT-060470, 060471, 060472, and 060473.

The applicant requests a permit to re-export and re-import African leopards (Panthera pardus) to/from worldwide locations to enhance the survival of the species through conservation education. These animals were previously authorized under PRT-814588. This notification covers activities conducted by the applicant over a three year period.

Applicant: Zoological Society of San Diego, San Diego, CA, PRT-060416.

The applicant requests a permit to re-export one live male giant panda (Ailuropoda melanoleuca) owned by the Government of China, originally imported as part of their research program in 1997, back to China. This re-export is part of the approved loan program for the benefit of the survival of the species and will allow continuation and completion of the research projects.

Applicant: Zoological Society of San Diego, San Diego, CA, PRT-053884.

The applicant requests a permit to import one live male giant panda (Ailuropoda melanoleuca) owned by the Government of China. This import is part of the loan program for the benefit of the survival of the species approved in 1997 and will allow continuation and completion of the research projects.

Applicant: Saint Louis Zoological Park, Saint Louis, MO, PRT-059390.

The applicant requests a permit to import three captive-bred cheetah (Acinonyx jubatus), from the Wassenaar Wildlife Breeding Center, Wassenaar, The Netherlands, for the purpose of enhancement of the survival of the species through captive propagation.

Marine Mammals

The public is invited to comment on the following applications for a permit to conduct certain activities with marine mammals. The applications were submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: Lawrence P. Rudolph, Greensburg, PA, PRT-058229.

The applicant requests a permit to import a polar bear (Ursus maritimus) sport hunted from the Norwegian Bay polar bear population in Canada for personal use.

Applicant: Thomas J. Pallansch, Elk River, MN, PRT-060217.

The applicant requests a permit to import a polar bear (Ursus maritimus) sport hunted from the Norwegian Bay polar bear population in Canada for personal use.

The U.S. Fish and Wildlife Service has information collection approval from OMB through March 31, 2004, OMB Control Number 1018-0093. Federal Agencies may not conduct or sponsor and a person is not required to respond to a collection of information unless it displays a current valid OMB control number.

Dated: July 26, 2002.
Monica Farris,
Senior Permit Biologist, Branch of Permits, Division of Management Authority.

[FR Doc. 02-21107 Filed 8-19-02; 8:45 am]

BILLING CODE 4310-55-U